DEPARTMENT OF THE INTERIOR

Fish and Wildlife Service

Crystal River National Wildlife Refuge

AGENCY: Fish and Wildlife Service, Interior.

ACTION: Notice of intent to prepare a comprehensive conservation plan and environmental assessment for Crystal River National Wildlife Refuge in Citrus County, Florida.

SUMMARY: The Fish and Wildlife Service intends to gather information necessary to prepare a comprehensive conservation plan and environmental assessment for Crystal River National Wildlife Refuge. This notice is furnished in compliance with the Service's comprehensive conservation planning policy to advise other agencies and the public of our intentions, and to obtain suggestions and information on the scope of issues to be considered in the planning process.

DATES: To ensure consideration, comments must be received by March 3, 2008. A public scoping meeting will be held on February 6, 2008, from 6-10 p.m. The location of the meeting will be announced in the local media.

ADDRESSES: Comments, questions, and requests for information should be sent to: Joyce Kleen, Wildlife Biologist, Crystal River National Wildlife Refuge, 1502 SE Kings Bay Drive, Crystal River, Florida 34429; Telephone: 352/563-2088, Ext. 211; or electronic mail: joyce_kleen@fws.gov. You may find additional information concerning the refuge at the refuge's Internet site: http://www.fws.gov/crystalriver.

FOR FURTHER INFORMATION CONTACT: Ms. Joyce Kleen at the address in the ADDRESSES section.

SUPPLEMENTARY INFORMATION: The National Wildlife Refuge System Administration Act of 1966, as amended by the National Wildlife Refuge System Improvement Act of 1997 (16 U.S.C. 668dd-668ee), requires the Service to develop a comprehensive conservation plan for each national wildlife refuge. The purpose in developing a comprehensive conservation plan is to provide refuge managers with a 15-year strategy for achieving refuge purposes and contributing to the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation. Public input in this planning process is essential.

Each unit of the National Wildlife Refuge System is established with specific purposes. These purposes are used to develop and prioritize management goals and objectives with the National Wildlife Refuge System mission, and to guide which public uses will occur on the refuge. The planning process is a means for the Service and the public to evaluate management goals and objectives for the best possible conservation efforts of this important wildlife habitat, while providing for wildlife-dependent recreation opportunities that are compatible with the refuge's establishing purposes and the mission of the National Wildlife Refuge System.

A comprehensive conservation planning process will be conducted that will provide opportunities for Tribal, State, Federal, and local governments; non-governmental organizations; and the public to participate in issue scoping and comment. The Service invites anyone interested to respond to the following questions:

1. What problems or issues do you want to see addressed in the comprehensive conservation plan?

2. What improvements would you recommend for Crystal River National Wildlife Refuge?

The above questions have been provided for your optional use. You are not required to provide any information. The Planning Team developed these questions to gather information about individual issues and ideas concerning the refuge. The Planning Team will use comments it receives as part of the planning process; however, it will not reference individual comments or directly respond to them.

Special mailings, newspaper articles, and other media outlets will be used to announce opportunities for input throughout the planning process. A public scoping meeting will be held in Crystal River, Florida, early in February 2008.

The environmental review of this project will be conducted in accordance with the requirements of the National Environmental Policy Act of 1969, as amended (42 U.S.C. 4321 et seq.); NEPA regulations (40 CFR parts 1500-1508); and other appropriate Federal laws and regulations. All comments received become part of the official public record. Before including your address, phone number, e-mail address, or other personal identifying information in your comment, you should be aware that your entire comment, including your personal identifying information, may be made publicly available at any time. While you can ask us in your comment to withhold your personal identifying information from public review, we cannot guarantee that we will be able to do so.

The Crystal River National Wildlife Refuge is in the town of Crystal River, Citrus County, Florida. This 80-acre refuge is comprised of several islands and springs surrounded by the spring-fed waters of Kings Bay at the headwaters of the Crystal River. Refuge management activities focus on conserving and protecting the West Indian manatee and its habitat. The refuge's warm water springs and nearby submerged vegetation provide essential winter habitat for about 20 percent of Florida's manatee population. The refuge also provides habitat and protection for other wildlife species, including wading birds, raptors, alligators, and fish. It provides wildlife-dependent recreation and environmental education for the public.

Authority: This notice is published under the authority of the National Wildlife Refuge System Improvement Act of 1997, Public Law 105-57.

Dated: November 14, 2007.
Cynthia K. Dohner,
Acting Regional Director.

[FR Doc. E7-25541 Filed 12-31-07; 8:45 am]

BILLING CODE 4310-55-P